DEPARTMENT OF HEALTH AND HUMAN SERVICES

Office of the Secretary

Office of Budget, Technology and Finance; Office of the Assistant Secretary for Administration and Management; Statement of Organization, Functions, and Delegations of Authority

Part A, Office of the Secretary, Statement of Organization, Functions and Delegations of Authority for the Department of Health and Human Services (HHS) is being amended as follows: Chapter AM, “Office of Resources and Technology (ORT),” as last amended at 68 FR 36808-36812, dated June 19, 2003 and 71 FR 38884-38888, dated July 10, 2006;” and Chapter AMM, “Office of the Chief Information Officer,” as last amended at 70 FR 42321-24, dated July 22, 2005; and Chapter AJ, “Office of the Assistant Secretary for Administration and Management (OASAM),” as last amended at 71 FR 27259-27262, dated May 10, 2006. The reorganization is to consolidate operational functions by transferring the informational technology functions from ORT to OASAM. The changes are as follows:

I. Under Section AM.20 Functions, Chapter AMM, “Office of the Chief Information Officer,” make the following changes:

A. Under Section AMM.10 Organization, delete in its entirety and replace with the following:

Section AMM.10 Organization. The Office of the Chief Information Officer (OCIO) is headed by the Deputy Assistant Secretary for Information Technology/HHS CIO, who reports to the Secretary and the Assistant Secretary for Budget, Technology and Finance. The HHS CIO serves as the primary IT leader for the Department, and the OCIO consists of the following:

○ Immediate Office (AMM).

○ Office of Resources Management (AMM2).

○ Office of Enterprise Architecture (AMM4).

○ Office of Enterprise Project Management (AMM5).

B. Under Section AM.20 Functions, delete Paragraph 3, “Office of Information Technology Operations (AMM3), in its entirety, and renumber the remaining paragraph in sequential order.

II. Under Chapter AJ, “Office of the Assistant Secretary for Administration and Management,” make the following changes:

A. Under Chapter AJ.10, Organization, delete in its entirety and replace with the following:

Section AJ.10 Organization: The Office of the Assistant Secretary for Administration and Management is under the direction of the Assistant Secretary for Administration and Management, who report to the Secretary and consists of the following components:

○ Immediate Office (AJ).

○ Office of Human Resources (AJA).

○ OS Executive Office (AJC).

○ Office for Facilities Management and Policy (AJE).

○ Office of Acquisition Management and Policy (AJG).

○ Office of Small and Disadvantaged Business Utilization (AJH).

○ Office of Diversity Management & Equal Employment Opportunity (AJI).

○ Office of Business Transformation (AJJ).

○ Office of Information Technology Operations (AJK).

○ Program Support Center (P).

B. At the end of Section AJ.20 Functions, add Paragraph K, the Office of Information Technology Operations (AJK):

K. Office of Information and Technology Operations

Section AJK.00 Mission: The mission of the Office of Information Technology Operations is to provide infrastructure support services, using a shared services model, to a consortium of departmental customers.

Section AJK.10 Organization: The Office of Information Technology Operations (OITO) is headed by a Director who reports directly to the Assistant Secretary for Administration and Management.

Section AJK.20 Functions: The Office of Information Technology Operations (OITO) is directed by the Director of OITO. OITO is responsible for providing Network Services, Help Desk, Call Center, Desktop Support, Server Architectures, IT Security, Secretary's Command Center and Continuity of Operations Planning (COOP) support, and Outreach and Customer Relationship Management (CRM) for participating HHS organizations. OITO is responsible for the following:

a. Operating, maintaining, and enhancing the computer network and services, including services for participating HHS organizations.

b. Implementing and monitoring network policies and procedures, and developing plans and budgets for network support services.

c. Ensuring reliable, high-performance network services.

d. Implementing and operating electronic tools to enhance Secretarial communications with all HHS personnel.

e. Implementing policies and guidance on information resources management for acquisition and use of information technology, support of technical model, and coordination of implementation procedures.

f. Maintaining and operating the inventory of automated data processing equipment for ITSC participating agencies.

g. Operating and maintaining an information technology support service (Help Desk and Call Center) for participating HHS components.

h. Managing contracts for equipment and support services related to the provision of IT services in OITO participating agencies.

i. Representing the ASAM through participation on interagency and Departmental work groups and task forces, as appropriate.

j. Responsible for OITO compliance with and implementation of all applicable HHS policies and Federal Laws regarding IT Security.

k. Reviewing and facilitating acquisitions for activities related to and in support of the OS and OITO mission.

C. Under Section AJA.20 Functions, delete paragraph B, SW Complex Team (AJ1), in its entirety.

D. Under Section AJA 20 Functions, under Paragraph F, “Office for Facilities Management and Policy AJE,” make the following changes:

1. Under Paragraph F, Section AJE.10 Organization, delete in its entirety and replace with the following:

Section AJE.10 Organization. The Office for Facilities Management and Policy (OFMP) is headed by a Deputy Assistant Secretary, who reports directly to the Assistant Secretary for Administration and Management, and consists of the following components:

○ Division of Planning and Construction (AJE1).

○ Division of Operations and Maintenance (AJE2).

○ Division of Real Property (AJE3).

○ SW Complex Security Team (AJE4).

2. Under Paragraph F, Section AJE.20 Functions, add the following new paragraph:

4. SW Complex Security Team (AJE4): Provides physical security for employees and visitors protection in the Hubert H. Humphrey (HHH) Building and other SW Complex facilities; oversees the OS and Southwest complex occupational safety and health programs; oversees the fire prevention program; manages HHH Building parking facilities and HHS parking in other SW Complex lots; issues and controls employee identification badges; and manages the HHS Building visitor program and special events admittance support.

III. Continuation of Policy: Except as inconsistent with this reorganization, all statements of policy and interpretations with respect to the Office of Information and Resources Management heretofore issued and in effect prior to this reorganization are continued in full force and effect with respect to the Office of the Chief Information Officer.

IV. Delegation of Authority: All delegations and redelegations of authority previously made to officials and employees of the Office of Information Resources Management will continue in them or their successors pending further redelegation, provided they are consistent with this reorganization.

V. Funds, Personnel, and Equipment: Transfer of organizations and functions affected by this reorganization shall be accompanied by direct and support funds, positions, personnel, records, equipment, supplies, and other sources.

Dated: January 10, 2007.
Joe W. Ellis,
Assistant Secretary for Administration and Management.

[FR Doc. 07-155 Filed 1-17-07; 8:45 am]

BILLING CODE 4150-24-M